DEPARTMENT OF TRANSPORTATION

Federal Railroad Administration

Safety Advisory 2008-02

AGENCY: Federal Railroad Administration (FRA), Department of Transportation (DOT).

ACTION: Notice of Safety Advisory; Safety Appliance Securement, Potential Failure of Welded Hand Brake Supports on GVSR 200000 Series Flatcars.

SUMMARY: FRA is issuing Safety Advisory 2008-02 in order to provide guidance to interested parties concerning the inspection and repair of GVSR series flatcars that have been modified to add welded vertical hand brake supports. FRA's Office of Safety Assurance and Compliance Motive Power and Equipment (MP&E) Division has been notified of a catastrophic failure of the welded securement of the vertical hand brake support on Flatcar GVSR 209000. The failure occurred on May 29, 2008, and resulted in the fatality of a Union Pacific Railroad (UP) train crewmember.

FOR FURTHER INFORMATION CONTACT: Tom Blankenship, Mechanical Engineer, MP&E Division (RRS-14); FRA Office of Safety Assurance and Compliance, 1200 New Jersey Avenue, SE., Washington, DC 20590, telephone: (202) 493-6446.

SUPPLEMENTARY INFORMATION: On May 29, 2008, at approximately 10:17 a.m. (CST), a railroad employee was riding a cut of four cars while attempting to set the hand brake on Flatcar GVSR 209000. During this task, the hand brake support angles, which had been previously welded, suddenly broke; this may have contributed to the employee falling under the rolling equipment, resulting in the fatality. Preliminary details of this incident indicate that the welded vertical hand brake support angles had an “old break” condition that allowed the remaining weld to fail when force was applied to the hand brake. Field investigation of the failed vertical hand brake support indicates that the hand brake and/or brackets were improperly applied or not mechanically fastened. See Title 49 Code of Federal Regulations (CFR) Sections 231.110B3, 231.1(a)(4)(iii), and 231.27(a)(4)(iii), requiring hand brake housing to be securely fastened to a car.

Flatcars in the GVSR 200000 series were built in Chicago, IL, by Thrall Manufacturing in 1973, with a horizontal hand brake assembly that was later modified for vertical hand brake operation. The flatcars that may have been modified from horizontal application to vertical application are in the following series and are owned by UP:

• GVSR 209000-209002

• GVSR 202000-202034

• GVSR 205000-205004

• GVSR 208000-208002

• GVSR 213000-213004

FRA believes there may be other flatcars that have been similarly converted and that they may be subjected to the same type of failure.

Recommended Action: Recognizing the need to ensure safety, FRA recommends that railroads and car owners operating flatcars that have a vertical hand brake support that is welded to the carbody carefully inspect the cars to determine the adequacy of any welded securement. Any car found with a defective condition should be immediately handled for repair in accordance with 49 U.S.C. 20303 and repaired in accordance with accepted industry practice or by using approved fasteners as outlined in 49 CFR Section 231.1(a)(4)(iii). Welding, where present, must be done in accordance with industry practice, as specified in American Welding Society Standards D1 and D15. FRA further recommends that UP inspect all of the above noted series flatcars and immediately handle for repair those cars found with defective fastening conditions. UP is encouraged to work closely with FRA by furnishing its MP&E Division with a complete list of affected cars, any inspection findings, a list of repairs made to the cars, and the date repairs were completed on the cars.

FRA may modify this Safety Advisory 2008-02, issue additional safety advisories, or take other appropriate action necessary to ensure the highest level of safety on the Nation's railroads.

Issued in Washington, DC, on November 26, 2008.
Jo Strang,
Associate Administrator for Safety.

[FR Doc. E8-28652 Filed 12-2-08; 8:45 am]

BILLING CODE 4910-06-P